DEPARTMENT OF HEALTH AND HUMAN SERVICES

National Institutes of Health

Center for Scientific Review; Amended Notice of Meeting

Notice is hereby given of a change in the meeting of the Center for Scientific Review Special Emphasis Panel, November 17, 2006, 2 p.m. to November 17, 2006, 3 p.m., Wyndham Washington, DC, 1400 M Street, NW., Washington, DC, 20005 which was published in the Federal Register on October 25, 2006, 71 FR 62481-62482.

The meeting will be held at The Melrose Hotel, 2430 Pennsylvania Avenue, NW., Washington, DC 20037. The meeting date and time remain the same. The meeting is closed to the public.

Dated: November 2, 2006.
Anna Snouffer,
Acting Director, Office of Federal Advisory Committee Policy.

[FR Doc. 06-9152 Filed 11-9-06; 8:45 am]

BILLING CODE 4140-01-M